DEPARTMENT OF LABOR

Bureau of Labor Statistics

Data Users Advisory Committee; Notice of Meeting and Agenda

The Bureau of Labor Statistics Data Users Advisory Committee will meet on Thursday, May 12, 2016. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Janet Norwood Conference and Training Center. The schedule and agenda for the meeting are as follows:

8:30 a.m. Registration

9:00 a.m. Commissioner's welcome and review of agency developments

9:45 a.m. Decreasing the level of detail in certain occupations and industries in the OES Program

10:45 a.m. Redesigned news releases

1:00 p.m. New CPI estimation system capabilities and stakeholder survey results

2:00 p.m. Measuring quarterly labor productivity by industry

3:15 p.m. Research on wages and compensation benefits for non-profits

4:15 p.m. Meeting wrap-up

The meeting is open to the public. Any questions concerning the meeting should be directed to Kathy Mele, Data Users Advisory Committee, on 202.691.6102. Individuals who require special accommodations should contact Ms. Mele at least two days prior to the meeting date.

Signed at Washington, DC, this 5th day of April 2016.
Kimberly D. Hill,
Chief, Division of Management Systems, Bureau of Labor Statistics.

[FR Doc. 2016-08093 Filed 4-7-16; 8:45 am]

BILLING CODE 4510-24-P